OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: David Guilford, Center for Leadership and Executive Resources Policy, Division for Strategic Human Resources Policy, 202-606-1391.

SUPPLEMENTARY INFORMATION: Appearing in the listing below are the individual authorities established under Schedules A, B, and C between March 1, 2006, and March 31, 2006. Future notices will be published on the fourth Tuesday of each month, or as soon as possible thereafter. A consolidated listing of all authorities as of June 30 is published each year.

Schedule A

No Schedule A appointments were approved for March 2006.

Schedule B

No Schedule B appointments were approved for March 2006.

Schedule C

The following Schedule C appointments were approved during March 2006:

Section 213.3303 Executive Office of the President

Office of National Drug Control Policy

QQGS00043 Legislative Assistant to the Associate Director, Legislative Affairs. Effective March 22, 2006.

QQGS00040 Legislative Analyst to the Associate Director, Legislative Affairs. Effective March 23, 2006.

Section 213.3304 Department of State

DSGS61037 Foreign Affairs Officer to the Assistant Secretary for Western Hemispheric Affairs. Effective March 01, 2006.

DSGS61050 Staff Assistant to the Deputy Secretary. Effective March 03, 2006.

DSGS61053 Staff Assistant to the Assistant Secretary, Bureau of Educational and Cultural Affairs. Effective March 3, 2006.

DSGS61052 Special Assistant to the HIV/AIDS Coordinator. Effective March 9, 2006.

DSGS61058 Staff Assistant to the Assistant Secretary for Oceans, International Environment and Science Affairs. Effective March 9, 2006.

DSGS61006 Legislative Management Officer to the Assistant Secretary for Legislative and Intergovernmental Affairs. Effective March 16, 2006.

DSGS61051 Staff Assistant to the Senior Advisor to the Secretary and White House Liaison. Effective March 16, 2006.

DSGS61057 Writer-Editor to the Assistant Secretary for Oceans, International Environment and Science Affairs. Effective March 28, 2006.

DSGS61060 Protocol Assistant to the Chief of Protocol. Effective March 28, 2006.

DSGS60762 Special Assistant to the Assistant Secretary for Public Affairs. Effective March 31, 2006.

DSGS61005 Legislative Management Officer to the Assistant Secretary for Legislative and Intergovernmental Affairs. Effective March 31, 2006.

Section 213.3305 Department of the Treasury

DYGS00439 Executive Secretary to the Chief of Staff. Effective March 9, 2006.

DYGS00467 Associate Director to the White House Liaison. Effective March 10, 2006.

DYGS00468 Public Affairs Specialist to the Director, Public Affairs. Effective March 16, 2006.

DYGS60395 Deputy Executive Secretary to the Executive Secretary. Effective March 22, 2006.

Section 213.3306 Department of Defense

DDGS16927 Staff Assistant to the Special Assistant to the Secretary of Defense for White House Liaison. Effective March 15, 2006.

DDGS16925 Public Affairs Specialist to the Public Affairs Specialist. Effective March 16, 2006.

DDGS16923 Research Assistant to the Speechwriter. Effective March 21, 2006.

DDGS16924 Speechwriter to the Speechwriter. Effective March 21, 2006.

DDGS16909 Special Assistant to the Special Assistant to the Secretary of Defense for White House Liaison. Effective March 30, 2006.

DDGS16928 Director, Department of Defense Office of Legislative Counsel to the Deputy General Counsel Legal Counsel. Effective March 31, 2006.

Section 213.3308 Department of the Navy

DNGS06113 Staff Assistant to the Secretary of the Navy. Effective March 16, 2006.

Section 213.3310 Department of Justice

DJGS00027 Counselor to the Assistant Attorney General Environment and Natural Resources. Effective March 17, 2006.

Section 213.3311 Department of Homeland Security

DMG500486 Supervisory Management and Program Analyst to the Executive Secretary. Effective March 8, 2006.

DMGS00491 Confidential Assistant to the Chief of Staff. Effective March 8, 2006.

DMGS00494 Special Assistant to the Under Secretary for Emergency Preparedness and Response. Effective March 14, 2006.

DMGS00489 Deputy Director of Secretarial Briefing Book to the Executive Secretary. Effective Marcy 15, 2006.

DMGS00490 Director of Faith-Based and Community Initiatives to the Under Secretary for Preparedness. Effective March 15, 2006.

DMGS00492 Deputy Director for Legislative Affairs to the Director of Legislative Affairs, Federal Emergency Management Agency. Effective March 15, 2006.

DMGS00493 Confidential Assistant to the General Counsel. Effective March 22, 2006.

DMGS00497 Deputy Executive Director, Homeland Security Advisory Committees to the Executive Director, Homeland Security Advisory Committees. Effective March 22, 2006.

DMGS00480 Deputy Director of Communications to the Chief of Staff. Effective March 25, 2006.

DMGS00496 Director of Scheduling and Advance to the Chief of Staff. Effective March 25, 2006.

DMGS00468 Public Liaison Officer to the Director of Strategic Communications. Effective March 30, 2006.

DMGS00500 White House Liaison and Advisor to the Chief of Staff. Effective March 30, 2006.

Section 213.3312 Department of the Interior

DIGS01059 Special Assistant—Historic Preservation to the Chief of Staff. Effective March 15, 2006.

DIGS09059 Speechwriter to the Director, Office of Communications. Effective March 15, 2006.

DIGS01060 Special Assistant to the Assistant Secretary for Water and Science. Effective March 16, 2006.

DIGS70005 Assistant Director, Legislative and Congressional Affairs to the Director National Park Service. Effective March 16, 2006.

DIGS01061 White House Liaison to the Deputy Chief of Staff. Effective March 24, 2006.

DIGS01062 Associate Director—External and Intergovernmental Affairs to the Director, External and Intergovernmental Affairs. Effective March 24, 2006.

DIGS60133 Chief, Office of Congressional and Legislative Affairs to the Director, External and Intergovernmental Affairs. Effective March 25, 2006.

DIGS01063 Associate Director—External and Intergovernmental Affairs to the Director, External and Intergovernmental Affairs. Effective March 31, 2006.

Section 213.3313 Department of Agriculture

DAGS00845 Deputy Director, Advance to the Director of Communications. Effective March 10, 2006.

DAG500847 Confidential Assistant to the Associate Administrator. Effective March 28, 2006.

DAGS00846 Deputy Director of Communications to the Director of Communications. Effective March 29, 2006.

DAGS00848 Special Assistant to the Under Secretary for Natural Resources and Environment. Effective March 29, 2006.

Section 213.3314 Department of Commerce

DCGS00506 Public Affairs Specialist to the Director of Public Affairs. Effective March 3, 2006.

DCGS00696 Deputy Director of Public Affairs to the Director of Public Affairs. Effective March 3, 2006.

DCGS00683 Senior Advisor to the Assistant Secretary for Import Administration. Effective March 13, 2006.

DCGS00447 Confidential Assistant to the Director of Scheduling. Effective March 29, 2006.

DCGS00628 Confidential Assistant to the Director of Public Affairs. Effective March 29, 2006.

Section 213.3315 Department of Labor

DLGS60222 Special Assistant to the Assistant Secretary for Disability Employment Policy. Effective March 10, 2006.

DLGS60113 Special Assistant to the Assistant Secretary for Public Affairs. Effective March 15, 2006.

DLGS60171 Deputy Director of Advance to the Director of Operations. Effective March 30, 2006.

Section 213.3316 Department of Health and Human Services

DHGS60029 Special Assistant to the Assistant Secretary for Public Affairs. Effective March 1, 2006.

DHGS60527 Confidential Assistant (Scheduling) to the Director of Scheduling. Effective March 1, 2006.

DHGS60632 Special Outreach Coordinator to the Deputy Assistant Secretary for Public Affairs (Policy and Strategy). Effective March 1, 2006.

DHGS60347 Congressional Liaison Specialist to the Deputy Assistant Secretary for Legislation (Congressional Liaison). Effective March 10, 2006.

DHGS60549 Speechwriter to the Assistant Secretary for Public Affairs. Effective March 25, 2006.

Section 213.3317 Department of Education

DBGS00509 Executive Director, White House Initiative on Historically Black Colleges and Universities to the Chief of Staff. Effective March 3, 2006.

DBGS00512 Special Assistant to the Deputy Assistant Secretary for External Affairs and Outreach Services. Effective March 14, 2006.

DBGS00511 Confidential Assistant to the Director, International Affairs Office. Effective March 25, 2006.

Section 213.3318 Environmental Protection Agency

EPGS06007 Deputy Speech Writer to the Associate Administrator for Public Affairs. Effective March 3, 2006.

EPGS06009 Press Secretary to the Associate Administrator for Public Affairs. Effective March 27, 2006.

EPGS06008 Advance Specialist to the Deputy Chief of Staff (Operations). Effective March 31, 2006.

Section 213.3323 Overseas Private Investment Corporation

PQGS04035 Confidential Assistant to Chief of Staff. Effective March 8, 2006.

Section 213.3325 United States Tax Court

JCGS60071 Trial Clerk to the Chief Judge. Effective March 3, 2006.

Section 213.3331 Department of Energy

DEGS00517 Scheduler to the Secretary. Effective March 27, 2006.

DEGS00513 Senior Advisor/Director of Strategic Initiatives to the Secretary. Effective March 31, 2006.

Section 213.3337 General Services Administration

GSGS00170 Special Assistant to the Commissioner, Public Buildings Service. Effective March 1, 2006.

GSGS00172 Senior Advisor to the Commissioner, Public Buildings Service. Effective March 1, 2006.

GSGS00161 Public Affairs Specialist to the Deputy Director for Communications. Effective March 15, 2006.

GSGS00163 Special Assistant to the Associate Administrator for Performance Improvement. Effective March 25, 2006.

GSGS00173 Senior Advisor to the Chief Acquisition Officer. Effective March 30, 2006.

Section 213.3344 Occupational Safety and Health Review Commission

SHGS00002 Confidential Assistant to the Commission Member (Chairman). Effective March 28, 2006.

Section 213.3348 National Aeronautics and Space Administration

NNGS00166 Executive Assistant to the Chief of Staff. Effective March 1, 2006.

NNGS00168 Editor to the Assistant Administrator for Public Affairs. Effective March 15, 2006.

Section 213.3357 National Credit Union Administration

CUOT00026 Staff Assistant to the Vice Chair. Effective March 10, 2006.

Section 213.3384 Department of Housing and Urban Development

DUGS60394 Staff Assistant to the Assistant Secretary for Community Planning and Development. Effective March 16, 2006.

DUGS60344 Staff Assistant to the Assistant Secretary for Public Affairs. Effective March 22, 2006.

Section 213.3391 Office of Personnel Management

PMGS00057 Executive Director, Chief Human Capital Officers Council to the Executive Director and Senior Counselor to the Director. Effective March 16, 2006.

PMGS00058 Senior Advisor to the Director. Effective March 17, 2006.

Authority: 5 U.S.C. 3301 and 3302; E.O. 10577, 3 CFR 1954-1958 Comp., p. 218

Office of Personnel Management.
Dan G. Blair,
Deputy Director.

[FR Doc. 06-4129 Filed 5-1-06; 8:45 am]

BILLING CODE 6325-39-M